DEPARTMENT OF COMMERCE

National Oceanic and Atmospheric Administration

RIN 0648-XG629

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Personnel Committee (Closed Session); Standard Operating, Policy, and Procedure (SOPPs) Committee; Habitat Protection and Ecosystem-Based Management Committee; Dolphin Wahoo Committee; Snapper Grouper Committee; Executive Finance Committee; Southeast Data, Assessment, and Review (SEDAR) Committee (Partially Closed Session) and the Citizen Science Committee. The Council meeting week will include the swearing in of a new member, a formal public comment period, and a meeting of the full Council. A Federal For-Hire Electronic Reporting Training Session will also be held as part of the Council meeting week.

DATES: The Council meetings will be held from 1:30 p.m. on Monday, December 3, 2018 until 12 p.m. on Friday, December 7, 2018.

ADDRESSES: Meeting address: The meeting will be held at the Hilton Garden Inn/Outer Banks, 5353 N Virginia Dare Trail, Kitty Hawk, NC 27949; phone: (252) 261-1290; fax: (252) 255-0153.

Council address: South Atlantic Fishery Management Council, 4055 Faber Place Drive, Suite 201, N Charleston, SC 29405.

FOR FURTHER INFORMATION CONTACT: Kim Iverson, Public Information Officer, SAFMC; phone: (843) 302-8440 or toll free: (866) SAFMC-10; fax: (843) 769-4520; email: kim.iverson@safmc.net. Meeting information is available from the Council's website at: http://safmc.net/safmc-meetings/council-meetings/.

SUPPLEMENTARY INFORMATION: Public comment: Written comments may be directed to Gregg Waugh, Executive Director, South Atlantic Fishery Management Council (see Council address) or electronically via the Council's website at http://safmc.net/safmc-meetings/council-meetings/. Comments received by close of business the Monday before the meeting (11/26/18) will be compiled, posted to the website as part of the meeting materials, and included in the administrative record; please use the Council's online form available from the website. For written comments received after the Monday before the meeting (after 11/26/18), individuals submitting a comment must use the Council's online form available from the website. Comments will automatically be posted to the website and available for Council consideration. Comments received prior to noon on Thursday, December 6, 2018 will be a part of the meeting administrative record.

The items of discussion in the individual meeting agendas are as follows:

Swearing in of New Council Member, Monday, December 3, 2018 From 1:30 p.m. Until 1:40 p.m.

Newly appointed Council member David Whitaker (South Carolina) will be sworn to duty by the NOAA Fisheries Regional Administrator.

Personnel Committee (Closed Session), Monday, December 3, 2018, 1:40 p.m. Until 5 p.m.

The Committee will meet in Closed Session to provide a performance review for the Executive Director, review and discuss Council staff medical benefits, and review other recommendations from the Personnel Committee.

SOPPs Committee, Tuesday, December 4, 2018, 8:30 a.m. Until 9:30 a.m.

The Committee will review and approve proposed changes to the Council Handbook and develop recommendations as appropriate.

Habitat Protection and Ecosystem-Based Management Committee, Tuesday, December 4, 2018, 9:30 a.m. Until 11 a.m.

1. The Committee will discuss ways to address species moving northwards along the Atlantic Coast.

2. The Committee will receive an update on the Fishery Ecosystem Plan II Dashboard and tools development, ecosystem modelling and regional partner coordination, and take action as needed.

3. The Committee will also receive a report from the Habitat Advisory Panel meeting; presentations on renewable energy development including the Kitty Hawk Wind Energy Project; and take action as needed.

Dolphin Wahoo Committee, Tuesday, December 4, 2018, 11 a.m. Until 2:30 p.m.

1. The Committee will receive updates from NOAA Fisheries on the status of recreational and commercial catches versus annual catch limits (ACLs).

2. The Committee will receive a presentation on issues affecting bullet and frigate mackerels as prey for dolphin and wahoo, and provide guidance to staff.

3. The Committee will review draft actions for dolphin to include in Amendment 10 to the Dolphin Wahoo Fishery Management Plan including revising the Optimum Yield, modifying annual catch targets (ACTs), adaptive management of sector ACLs, and addressing authorized gear. The Committee will take action as needed.

Snapper Grouper Committee Meeting, Tuesday, December 4, 2018, 2:30 p.m. Until 5 p.m. and Wednesday, December 5, 2018, 8:30 a.m. Until 3:45 p.m.

1. The Committee will receive updates from NOAA Fisheries on commercial and recreational catches versus quotas for species under ACLs and the status of amendments under formal Secretarial review.

2. The Committee will receive a report from the Snapper Grouper Advisory Panel and from the Council's Scientific and Statistical Committee and take action as appropriate.

3. The Committee will review Snapper Grouper Regulatory Amendment 30 addressing the rebuilding plan for red grouper, discuss timing for the amendment, modify the draft amendment as necessary, and provide guidance to staff.

4. The Committee will receive an overview of Vision Blueprint Regulatory Amendment 26 addressing recreational management actions and alternatives as identified in the 2016-2020 Vision Blueprint for the Snapper Grouper Fishery Management Plan. The Committee will modify the document as necessary and consider recommending for formal Secretarial review.

5. The Committee will review Regulatory Amendment 42 addressing sea turtle release gear requirements and snapper grouper framework modifications, select preferred management alternatives and consider approving the amendment for public hearings.

6. The Committee will receive an overview for a draft Allocation Review Trigger Plan to establish criteria for reviewing sector allocations and provide guidance to staff on timing and approach.

7. The Committee will receive an overview and review public comments for Snapper Grouper Regulatory Amendment 32 addressing yellowtail snapper accountability measures, review public comments, modify actions as needed, and consider approval for formal review.

8. The Committee will also review options for a Recreational Accountability Amendment, review the Vision Blueprint Biennial Evaluation, receive an update on the Catch Per Unit Effort for red snapper, and receive a review of the Characterization of the Snapper Grouper Commercial Fishery, and provide direction to staff as appropriate.

Executive/Finance Committee, Wednesday, December 5, 2018, 3:45 p.m. Until 4 p.m. and Thursday, December 6, 2018 From 1:30 p.m. Until 3 p.m.

1. The Committee will review the Council's ranking of amendments for its work schedule, receive an update on Magnuson-Stevens Act Reauthorization efforts and the CCC Working Paper which includes positions on reauthorization, discuss, and provide guidance to staff.

2. The Committee will receive an update on the Calendar-Year 2018 expenditures, review a preliminary list of items for the 2019 budget, and take action as appropriate.

3. The committee will review the Council's Follow Up Document, Priorities and Tiering List, discuss, and provide guidance to staff.

Formal Public Comment, Wednesday, December 5, 2018, 4 p.m.

Public comment will be accepted on items on the Council meeting agenda scheduled to be approved for Secretarial Review: Snapper Grouper Vision Blueprint Regulatory Amendment 26 (recreational measures) and Snapper Grouper Regulatory Amendment 32 (yellowtail snapper accountability measures). Public comment will also be accepted on all agenda items. The Council Chair, based on the number of individuals wishing to comment, will determine the amount of time provided to each commenter.

SEDAR Committee, Thursday, December 6, 2018, 8:30 a.m. Until 10 a.m. (Partially Closed Session)

1. The Committee will make recommendations for appointments to the tilefish stock assessment and to the Scamp Stock Identification Workshop (Closed Session).

2. In open session, the Committee will review the SSC Report and provide recommendations on snowy grouper terms of reference (TORs), and the stock assessment schedule and TORs for scamp and tilefish.

3. The Committee will also receive an assessment activities update and an overview of the next SEDAR Steering Committee meeting, and provide guidance to staff as needed.

Citizen Science Committee, Thursday, December 6, 2018, 10 a.m. Until 12 p.m.

1. The Committee will review the Draft Citizen Science Program SOPPs, modify as needed and provide recommendations for approval.

2. The Committee will also receive an update on the Citizen Science Program and projects and take action as needed.

Council Session: Thursday, December 6, 2018, 3:15 p.m. Until 5 p.m. and Friday, December 7, 2018, 8:30 a.m. Until 12 p.m. (Partially Closed Session if Needed)

The Full Council will begin with the Call to Order, adoption of the agenda, approval of minutes, and awards/recognition. The Council will receive a Legal Briefing on Litigation from NOAA General Counsel (if needed) during Closed Session. The Council will receive staff reports including the Executive Director's Report, updates on the MyFishCount pilot project, recent hurricane impacts on fishing communities, and a report from the Atlantic Large Whale Take Reduction Team. Updates will be provided by NOAA Fisheries including a report on the status of recreational and commercial catches versus ACLs for species not covered during an earlier committee meeting, status of amendments under formal review, data-related reports, protected resources updates, update on the status of the of the Commercial Electronic Logbook Program, and the status of the Marine Recreational Information Program (MRIP) conversions for recreational fishing estimates. The Council will discuss and take action as necessary.

The Council will review any Exempted Fishing Permits received as necessary. The Council will also receive a presentation on recent research activities conducted by the NOAA Ship Okeanos Explorer.

The Council will receive committee reports from the Snapper Grouper, Habitat, Dolphin Wahoo, SEDAR, Citizen Science, Personnel, SOPPs, and Executive Finance Committees, and take action as appropriate.

The Council will receive agency and liaison reports; and discuss other business and upcoming meetings. Under other business, the Council will receive a presentation on the Monitor National Marine Sanctuary and take action as necessary.

Federal For-Hire Electronic Reporting Training Session, Thursday, December 6, 2018, 6 p.m.

Council staff will provide a hands-on training session to learn about new electronic reporting requirements for federally permitted for-hire captains and practice using tools that will be available to meet the reporting requirements.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: November 13, 2018.
Tracey L. Thompson,
Acting Deputy Director, Office of Sustainable Fisheries, National Marine Fisheries Service.

[FR Doc. 2018-25054 Filed 11-15-18; 8:45 am]

BILLING CODE 3510-22-P